DEPARTMENT OF HEALTH AND HUMAN SERVICES

Centers for Disease Control and Prevention

Healthcare Infection Control Practices Advisory Committee (HICPAC): Meeting

ACTION: Location Change.

SUMMARY: Department of Health and Human Services, Centers for Disease Control and Prevention, Healthcare Infection Control Practices Advisory Committee published a document in the Federal Register.

Federal Register: January 22, 2002 (Volume 67, Number 14) (Page 2889-2890).

Name: Healthcare Infection Control Practices Advisory Committee.

Times and Dates: 8:30 a.m.-5 p.m., February 25, 2002, 8:30 a.m.-4 p.m., February 26, 2002.

Correction

Old Location: Radisson Buckhead/Emory Area Inn, 2061 North Druid Hills Road, Atlanta, Georgia 30329.

New Location: Atlanta Century Center Marriott, Meeting Room: Century West, 2000 Century Boulevard NE, Atlanta, Georgia 30345 Phone: 404-348-1110.

Status: Open to the public, limited only by the space available.

Agenda items are subject to change as priorities dictate.

CONTACT PERSON FOR MORE INFORMATION: Michele L. Pearson, M.D., Executive Secretary, HICPAC, Division of Healthcare Quality Promotion, NCID, CDC, 1600 Clifton Road, NE., M/S A07, Atlanta, Georgia 30333, telephone 404/498-1182.

The Director, Management Analysis and Services Office, has been delegated the authority to sign Federal Register notices pertaining to announcements of meetings and other committee management activities, for both the Centers for Disease Control and Prevention and the Agency for Toxic Substances and Disease Registry.

Dated: January 31, 2002.
Alvin Hall,
Acting Director, Management Analysis and Services Office, Centers for Disease Control and Prevention.

[FR Doc. 02-2940 Filed 2-6-02; 8:45 am]

BILLING CODE 4163-18-P